DEPARTMENT OF AGRICULTURE

Agricultural Marketing Service

7 CFR Part 205

[Doc. No. AMS-NOP-22-0002]

National Organic Program: 2023 and 2024 Sunset Review and Substance Renewals

AGENCY: Agricultural Marketing Service, USDA.

ACTION: 2023 and 2024 sunset review and renewals.

SUMMARY: This document announces the renewal of substances listed on the National List of Allowed and Prohibited Substances (National List) within the U.S. Department of Agriculture's (USDA) organic regulations. This document reflects the outcome of the 2023 and 2024 sunset review processes and addresses recommendations submitted to the Secretary of Agriculture (Secretary), through the USDA's Agricultural Marketing Service (AMS), by the National Organic Standards Board (NOSB).

DATES: Applicable May 29, 2023.

FOR FURTHER INFORMATION CONTACT: Jared Clark, Standards Division, Telephone: (202) 720-3252; Fax: (202) 260-9151.

SUPPLEMENTARY INFORMATION:

Background

On December 21, 2000, the Secretary established the Agricultural Marketing Service's (AMS) National Organic Program (NOP) and the USDA organic regulations (65 FR 80547, December 21, 2000). Within the USDA organic regulations (7 CFR part 205) is the National List of Allowed and Prohibited Substances (or “National List”). The National List identifies the synthetic substances that may be used and the nonsynthetic (natural) substances that may not be used in organic crop and livestock production. It also identifies the nonorganic substances that may be used in or on processed organic products.

The Organic Foods Production Act of 1990 (OFPA), as amended (7 U.S.C. 6501-6524), and the USDA organic regulations specifically prohibit the use of any synthetic substance in organic production and handling unless the synthetic substance is on the National List (§§ 205.601, 205.603 and 205.605(b)). Section 205.105 also requires that any nonorganic agricultural substance and any nonsynthetic nonagricultural substance used in organic handling be on the National List (§§ 205.605(a) and 205.606).

The OFPA at 7 U.S.C. 6518 authorizes the NOSB, operating in accordance with the Federal Advisory Committee Act (section 1 et seq., 5 U.S.C. App.2), to evaluate substances for organic production and handling and to advise the Secretary on the USDA organic regulations. The OFPA “sunset provision” (7 U.S.C. 6517(e)) requires review of all substances included on the National List within five years of their addition to or renewal on the list.

As required in OFPA, the NOSB considered any new information about a substance's impact on human health and the environment, its necessity, and its consistency with organic production and handling. The NOSB then voted on whether to remove the substance from the National List, with a ⅔ majority needed to recommend removal of a substance.

As delegated by the Secretary, AMS evaluates the NOSB's reviews and recommendations for compliance with the National List substance evaluation criteria in the OFPA at 7 U.S.C. 6518(m) and other federal statutes or regulations. AMS also considers public comments submitted in association with the sunset review process, as described in the notice published on September 16, 2013 (78 FR 56811).

AMS published notices in the Federal Register announcing the NOSB meetings (Spring 2021 & 2022 and Fall 2021 & 2022) and invited public comments on the 2023 and 2024 sunset review of the substances included in the tables below. AMS also hosted public webinars prior to these NOSB meetings to provide additional opportunities for public comment. At these public meetings, the NOSB reviewed substances scheduled to sunset from the National List and recommended that they either be removed or remain on the National List.

AMS has reviewed and accepted all NOSB sunset review recommendations for substances with sunset dates in 2023 and 2024. AMS is renewing the listings of these substances until 2028 and 2029, respectively.¹ AMS determined that the substance allowances listed in this notice are still necessary because of the unavailability of organic forms or wholly natural substitutes for the specified uses (section 6517(c)(1)(A)(ii)). The renewal of these substances will avoid potential disruptions to the organic industry that may otherwise result from removal from the National List. AMS also has determined that the prohibited nonsynthetic substances listed in this notice should remain prohibited because their use remains inconsistent with organic production (section 6517(c)(2)(A)(ii)).

¹ National Organic Program, National List Sunset Dates, March 23, 2022, https://www.ams.usda.gov/sites/default/files/media/NOP-SunsetDates.pdf.

In 2016, the NOSB passed a proposal to redistribute material reviews across several years. Because most materials were added to the National List when the organic regulations published, the majority of sunset reviews occurred in the same year. This resulted in an inefficient use of resources and time. To adjust this, the NOSB and NOP redistributed the National List substances more evenly over a five-year span. To maintain this distribution, some substances in this notice will have a sunset date less than five years from their current date. This document covers the last year of this redistribution.²

² National Organic Standards Board, formal recommendation, sunset review efficient work load reorganization, November 18, 2016, https://www.ams.usda.gov/sites/default/files/media/PDSSunsetreorg.pdf.

In addition to the substances in the tables below, this document renews beta-carotene extract color, included on the National List at § 205.606(d)(2). This substance currently has a sunset date of May 29, 2023, but was reviewed early by the NOSB in 2020 along with the other allowed agricultural, non-organic colors. AMS discussed these meetings and renewals in the 2021 and 2022 sunset renewals (August 3, 2021; 86 FR 41699). This document renews beta-carotene extract color and establishes a new sunset date for this substance of March 15, 2027, to match the sunset dates of the other colors.

The following tables list specific substance allowances and prohibitions renewed by this notice.

Table 1—National List Substances Renewed Until May 29, 2028
Substance | Use conditions
§ 205.601 Synthetic substances allowed for use in organic crop production.
Calcium hypochlorite | As described under § 205.601(a)(2)(i).
Chlorine dioxide | As described under § 205.601(a)(2)(ii).
Hypochlorous acid—generated from electrolyzed water | As described under § 205.601(a)(2)(iii).
Sodium hypochlorite | As described under § 205.601(a)(2)(v).
Copper sulfate | As described under § 205.601(a)(3).
Ozone gas | As described under § 205.601(a)(5).
Peracetic acid | As described under § 205.601(a)(6).
Copper sulfate | As described under § 205.601(e)(4).
Magnesium oxide | As described under § 205.601(j)(5).
Peracetic acid | As described under § 205.601(i)(8).
EPA List 3—Inerts of unknown toxicity | As described under § 205.601(m)(2).
§ 205.602 Nonsynthetic substances prohibited for use in organic crop production.
Calcium chloride | As described under § 205.602(c).
Rotenone | As described under § 205.602(f).
§ 205.603 Synthetic substances allowed for use in organic livestock production.
Activated Charcoal | As described under § 205.603(a)(6).
Calcium borogluconate | As described under § 205.603(a)(7).
Calcium propionate | As described under § 205.603(a)(8).
Calcium hypochlorite | As described under § 205.603(a)(10)(i).
Chlorine dioxide | As described under § 205.603(a)(10)(ii).
Hypochlorous acid—generated from electrolyzed water | As described under § 205.603(a)(10)(iii).
Sodium hypochlorite | As described under § 205.603(a)(10)(iv).
Kaolin pectin | As described under § 205.603(a)(17).
Mineral oil | As described under § 205.603(a)(20).
Nutritive supplements | As described under § 205.603(a)(21).
Propylene glycol | As described under § 205.603(a)(27).
Sodium chlorite, acidified | As described under § 205.603(a)(28).
Sodium chlorite, acidified | As described under § 205.603(b)(9).
Zinc sulfate | As described under § 205.603(b)(11).
§ 205.605 Nonagricultural (nonorganic) substances allowed as ingredients in or on processed products labeled as “organic” or “made with organic (specified ingredients or food group(s)).”
Agar-agar | As described under § 205.605(a)(2).
Animal enzymes | As described under § 205.605(a)(3).
Calcium sulfate—mined | As described under § 205.605(a)(8).
Carrageenan | As described under § 205.605(a)(9).
Glucono delta-lactone | As described under § 205.605(a)(14).
Tartaric acid | As described under § 205.605(a)(28).
Cellulose | As described under § 205.605(b)(11).
Calcium hypochlorite | As described under § 205.605(b)(12)(i).
Chlorine dioxide | As described under § 205.605(b)(12)(ii).
Hypochlorous acid—generated from electrolyzed water | As described under § 205.605(b)(12)(iii).
Sodium hypochlorite | As described under § 205.605(b)(12)(iv).
Potassium hydroxide | As described under § 205.605(b)(26).
Potassium lactate | As described under § 205.605(b)(27).
Silicon dioxide | As described under § 205.605(b)(29).
Sodium lactate | As described under § 205.605(b)(33).

Table 2—National List Substances Renewed Until January 28, 2029
Substance | Use conditions
§ 205.601 Synthetic substances allowed for use in organic crop production.
Soluble boron products | As described under § 205.601(j)(7)(i).
Sulfates, carbonates, oxides, or silicates of zinc, copper, iron manganese, molybdenum, selenium, and cobalt | As described under § 205.601(j)(7)(ii).
Squid byproducts—from waste processing only | As described under § 205.601(j)(10).
§ 205.603 Synthetic substances allowed for use in organic livestock production.
Chlorhexidine | As described under § 205.603(a)(9).
Elemental sulfur | As described under § 205.603(b)(2).
Lidocaine | As described under § 205.603(b)(5).
§ 205.606 Nonorganically produced agricultural products allowed as ingredients in or on processed products labeled as “organic.”
Potassium acid tartrate | As described under § 205.606(p).

Table 3—National List Substances Renewed Until October 30, 2029
Substance | Use conditions
§ 205.601 Synthetic substances allowed for use in organic crop production.
Herbicides, soap-based | As described under § 205.601(b)(1).
Biodegradable biobased mulch film | As described under § 205.601(b)(2)(iii).
Boric acid | As described under § 205.601(e)(3).
Sticky traps/barriers | As described under § 205.601(e)(9).
Elemental sulfur | As described under § 205.601(h)(2).
Coppers, fixed—copper hydroxide, copper oxide, copper oxychloride | As described under § 205.601(i)(2).
Copper sulfate | As described under § 205.601(i)(3).
Polyoxin D zinc salt | As described under § 205.601(i)(11).
Humic acids | As described under § 205.601(j)(3).
Vitamins C and E | As described under § 205.601(j)(9).
§ 205.602 Nonsynthetic substances prohibited for use in organic crop production.
Lead salts | As described under § 205.602(d).
Tobacco dust (nicotine sulfate) | As described under § 205.602(j).
§ 205.603 Synthetic substances allowed for use in organic livestock production.
Glucose | As described under § 205.603(a)(13).
Tolazoline | As described under § 205.603(a)(29).
Copper sulfate | As described under § 205.603(b)(1).
§ 205.605 Nonagricultural (nonorganic) substances allowed as ingredients in or on processed products labeled as “organic” or “made with organic (specified ingredients or food group(s)).”
Attapulgite | As described under § 205.605(a)(4).
Bentonite | As described under § 205.605(a)(5).
Diatomaceous earth | As described under § 205.605(a)(10).
Magnesium chloride | As described under § 205.605(a)(17).
Nitrogen—oil free grades | As described under § 205.605(a)(20).
Sodium carbonate | As described under § 205.605(a)(27).
Acidified sodium chlorite | As described under § 205.605(b)(1).
Carbon dioxide | As described under § 205.605(b)(10).
Sodium phosphates | As described under § 205.605(b)(34).
§ 205.606 Nonorganically produced agricultural products allowed as ingredients in or on processed products labeled as “organic.”
Casings, from processed intestines | As described under § 205.606(b).
Pectin (non-amidated forms only) | As described under § 205.606(o).

Authority: 7 U.S.C. 6501-6524.

Erin Morris,
Associate Administrator, Agricultural Marketing Service.

[FR Doc. 2023-07886 Filed 4-13-23; 8:45 am]

BILLING CODE P